DEPARTMENT OF COMMERCE

National Oceanic and Atmospheric Administration

[Docket No. 990810211-2169-03]

RIN 0648-ZA69

National Marine Fisheries Service—Sea Grant Joint Graduate Fellowship Program in Population Dynamics and Marine Resource Economics: Request for Applications for FY 2003

AGENCY: National Sea Grant College Program, National Oceanic and Atmospheric Administration, Department of Commerce.

ACTION: Notice of request for applications.

SUMMARY: The purpose of this notice is to advise the public that the National Sea Grant College Program (Sea Grant) is seeking applications for one of its fellowship programs to fulfill its broad educational responsibilities and to strengthen the collaboration between Sea Grant and the National Marine Fisheries Service (NMFS). The NMFS—Sea Grant Joint Graduate Fellowship Program in Population Dynamics and Marine Resource Economics (Program), which is available to US citizens who are graduate students enrolled in PhD degree programs in academic institutions in the United States and its territories, with required institutional matching funds, expects to support four or five new Fellows in FY 2003. Fellows will work on thesis problems of public interest and relevance to NMFS and have summer internships at participating NMFS Science Centers or Laboratories under the guidance of NMFS mentors.

DATES: Applications must be received by 5 p.m. (local time) on December 3, 2002 by a state Sea Grant Program [or by the National Sea Grant Office (NSGO) in the case of an academic institution in a non-Sea Grant state]. Note that applications arriving after these deadlines will be accepted for review only if the applicant can document that the application was provided to a delivery service that guaranteed delivery (see ADDRESSES below) prior to the specified closing date and time; in any event, applications received by the NSGO or the state Sea Grant Programs later than two business days following the closing date will not be accepted. Facsimile transmissions and electronic mail submission of applications will not be accepted.

ADDRESSES: Applications originating from academic institutions in Sea Grant states must be submitted to the state Sea Grant Program. Applications originating elsewhere may be submitted either to the nearest state Sea Grant Program or directly to the NSGO. Sea Grant's Web site lists the addresses of the state Sea Grant College Program directors (http://www.nsgo.seagrant.org/SGDirectors.html) and the participating NMFS Facilities (http://www.nsgo.seagrant.org/research/rfp/NMFS_Labs.html), or those addresses may also be obtained by contacting the NSGO. Applications submitted to the NSGO should be addressed to: National Sea Grant Office, R/SG, Attn: Mrs. Geraldine Taylor, Proposal Processing, Room 11732, NOAA, 1315 East-West Highway, Silver Spring, MD 20910 (telephone number for express mail applications is 301-713-2445).

FOR FURTHER INFORMATION CONTACT: Information may be obtained from Dr. Emory D. Anderson, National Sea Grant College Program, 1315 East-West Highway, Silver Spring, MD 20910; tel: (301) 713-2435 ext. 144; e-mail: emory.anderson@noaa.gov; from any state Sea Grant Program (see ADDRESSES); or from any participating NMFS facility (see ADDRESSES).

SUPPLEMENTARY INFORMATION: National Marine Fisheries Service—Sea Grant Joint Graduate Fellowship Program in Population Dynamics and Marine Resource Economics.

I. Program Authority

Authority: 33 U.S.C. 1127(a).

(Catalog of Federal Domestic Assistance Number: 11.417, Sea Grant Support)

II. Description of Program

The National Sea Grant Office (NSGO) and the National Marine Fisheries Service (NMFS) established a new Graduate Fellowship Program in Population Dynamics and Marine Resource Economic (Program) in 1999. The intent of the Program is to award fellowships to about four new students each year who are interested in careers related to (1) the population dynamics of living marine resources and the development and implementation of quantitative methods for assessing their status, and (2) the economics of the conservation and management of living marine resources. At least two new fellowships are to be awarded each year in each of the Program's two disciplines resulting in about six students per discipline to be supported annually when the Program is at its maximum level.

For the FY 2003 competition now being announced, it is anticipated that funds will be available to award five new fellowships in the two disciplines combined.

The goals of the Program are to (1) encourage qualified applicants to pursue careers in (a) population dynamics and stock assessment methodology or (b) marine resource economics; (2) increase available expertise related to (a) the population dynamics and assessment of the status of the stocks of living marine resources or (b) economic analysis of living marine resource conservation and management decisions; (3) foster closer relationships between academic scientists and NMFS; and (4) provide real-world experience to graduate students and accelerate their career development.

The fellowships will provide support for up to three years for highly qualified graduate students working towards a PhD in population dynamics or related fields of study and for up to two years for highly qualified graduate students working towards a PhD in marine resource economics, natural resource economics, or environmental economics. Continued support after the first year will be contingent upon the availability of Federal funds and satisfactorily performance by the Fellow. In addition to his/her faculty adviser, each Fellow will be required to work closely with an expert (mentor) from NMFS who will provide data for the Fellow's thesis, serve on the Fellow's committee, and host an annual summer internship at the participating NMFS facility.

Mentors will be from participating NMFS Science Centers or Laboratories. Each Fellow will be required to work as a summer intern at the participating NMFS facility either on his/her thesis or on appropriate related problems. Remuneration for the summer internship will be part of the annual, award along with the support the Fellow receives during the academic year. Population Dynamics Fellows will also be expected to spend 10-20 days at sea per year learning, about sampling techniques and problems, commercial fishing, fishery biology, and local and regional issues of importance to fisheries management. Fellows may also work, as necessary, at the participating NMFS facility during some or all of the academic year at the mutual discretion of mentor, faculty adviser, and Fellow.

Newly-selected Fellows must submit a one-page description of their thesis research or assignment based on discussions involving mentor, faculty adviser, and Fellow to the Fellowship Program Manager by April 30, 2003. The thesis research or assignment description must reflect a clear mutual understanding of the substantive dimensions of the project and its expected results.

Fellows must, for each year of their fellowship, provide a written summary of their accomplishments and activities during the preceding year to the Fellowship Program Manager. This summary must accompany the request for each additional year's funding. Fellows will be expected to present a review of their research during the Annual Graduate Fellows Seminar held each spring at the NOAA facilities in Silver Spring, MD.

The award for each Fellowship, contingent upon the availability of Federal funds, will be in the form of a grant or cooperative agreement of $38,000 per year, 50 percent ($19,000) of which will be contributed by NMFS, 33⅓ percent ($12,667) by the NSGO, and 16⅔ percent ($6,333) by the academic institution as the required 50 percent match of NSGO funds; the involvement of NMFS in cooperative agreements is described above. The portion of the award provided to each Fellow for salary (stipend), living expenses (per diem), tuition (unless waived), health insurance and other institution fees, and travel necessary to carry out the proposed thesis research and to attend the Annual Graduate Fellows Seminar each spring in Silver Spring, MD will be determined and distributed by the institution in accordance with its guidelines.

III. Eligibility

Any student may apply who is a United States citizen. At the time of application, prospective Population Dynamics Fellows must be admitted to a PhD degree program in population dynamics or a related field such as applied mathematics, statistics, or quantitative ecology at an academic institution in the United States or its territories, or submit a signed letter from the institution indicating provisional acceptance to a PhD degree program conditional on obtaining financial support such as this fellowship. At the time of application, prospective Marine Resource Economics Fellows must be in the process of completing at least two years of course work in a PhD degree program in natural resource economics or a related field at an academic institution in the United States or its territories.

IV. Evaluation Criteria

Evaluation criteria will include (1) relevant academic ability and achievement, particularly quantitative skills (35 percent); (2) demonstrated research ability in the discipline and appropriateness/importance of proposed thesis topic (30 percent); (3) expertise of major professor (20 percent); and (4) additional relevant experience (15 percent).

V. Selection Procedures

Applications will be ranked in accordance with the above criteria and their assigned weights by a single, independent, national review panel consisting of government and academic experts for each of the two disciplines. The panel members will provide individual evaluations of each applicant, but there will be no consensus advice. Their recommendations and evaluations will be considered by the NSGO in the final selection. Only those applications receiving a minimum score of 50 percent by the panel will be eligible for funding. For those applications, the NSGO will (1) ascertain which best meet the objectives of the Program; (2) give priority to NMFS Fisheries Science Centers which do not currently have Fellows; and (3) select the applications to be funded. Accordingly, awards may not necessarily be made to the highest-scoring applications in each discipline. Applicants may be asked to modify objectives, work plans, or budgets prior to final approval of the award. Subsequent grant administration procedures will be in accordance with current NOAA grants procedures. A summary statement of the review of the application by the review panel will be provided to each applicant.

VI. Timetable

December 3, 2002, 5 p.m. (local time)—Applications must be received by state Sea Grant Program or by NSGO (only if application is from an academic institution in a non-Sea Grant state).

December 10, 2002, 5 p.m. EST—Applications due at NSGO from state Sea Grant Programs.

June 1, 2003 (approximate)—Funds awarded.

Note that applications arriving after the above deadlines will be accepted for review only if the applicant can document that the application was provided to a delivery service that guaranteed delivery (see ADDRESSES above) prior to the specified closing date and time; in any event, applications received by the NSGO or the state Sea Grant Programs later than two business days following the closing date will not be accepted. Facsimile transmissions and electronic mail submission of applications will not be accepted.

VII. Application Instructions

A. General Guidelines

All printed pages in the application must be on either metric A4 (210 mm × 297 mm) or 8.5″ × 11″ paper with at least a 10-point font. Applications must include the items listed below.

1. Signed Title Page: The title page must identify the prospective Fellow, be signed by the Faculty Advisor and the institutional representative, and provide complete contact information. The program area being addressed should be clearly identified by starting the project title with “NMFS—Sea Grant Graduate Fellowship”. The total amount of Federal and matching funds being requested for each project year must be listed.

2. Project Summary: The project summary should concisely describe the activity being proposed and the impact that would result from its successful completion, in a form suitable for publication. Applicants are encouraged to use the Sea Grant Project Summary Form 90-2, but may use their own form as long as it provides the same information as the Sea Grant form. The project summary should include: a. Title: Use the exact title as it appears in the rest of the application. b. Investigators: List the names and affiliations of each investigator who will significantly contribute to the project, starting with the faculty advisor. c. Funding request for each year of the Fellowship, including matching funds. d. Project Period: Start and completion dates. Applications should request a start date of June 1, 2003, e. Project Abstract: This should include the rationale for the proposed activity, the scientific or technical objectives and/or hypotheses to be tested, and a brief summary of the work to be completed.

3. Budget and Budget Justification: There should be a separate budget for each year as well as a cumulative annual budget for the entire period of the proposed fellowship. The Sea Grant Budget Form 90-4 should preferably be used, but the institution may use its own form as long as it provides the same information as the Sea Grant form. Subrecipients or contractors, if any, should have a separate budget page. Indirect costs are not allowable for either the fellowship or for any costs associated with the fellowship (15 CFR 917.11(e), “Guidelines for Sea Grant Fellowships”).

Matching funds equivalent to 50 percent of the NSGO funds must be provided by the Fellow's institution. Allocation of matching funds must be specified in the budget and may consist of up to one/half month's salary for the faculty adviser, waived tuition, equipment and supplies, and any other costs typically used as matching funds. In addition to stipend and tuition for the applicant, the budget should include funds for equipment, supplies, and travel (see “Description of Program” above).

4. Curriculum vitae of the student, the faculty advisor, and the NMFS research mentor (2-page maximum per investigator).

5. Signed letter of commitment from the prospective NMFS mentor.

6. Official copies of all undergraduate and graduate student transcripts.

7. Education and career goal statement (not to exceed two pages) from the student indicating the number of years for which fellowship support is being sought and the student's interest in (a) marine population dynamics or the development and implementation of quantitative methods for assessing stock status of living marine resources, or (b) in marine resource economics (a summary of the proposed thesis or the general intended area of study should be included, if available).

8. Three signed letters of recommendation, including one from the student's faculty adviser.

9. Proof of application, acceptance, provisional acceptance, and enrollment (only for Population Dynamics applicants) in the case of students entering graduate school (i.e., who have not yet completed one semester of graduate work) if they are selected for a fellowship.

VIII. How To Submit

Ten (10) copies of applications must be submitted to the state Sea Grant Programs or to the NSGO according to the schedule outlined above (See ADDRESSES and “Timetable”). The addresses of the state Sea Grant College Programs may be found at the following Internet Web site: (http://www.nsgo.seagrant.org/SGDirectorws.html). Applications sent to the NSGO should be addressed to: National Sea Grant Office, R/SG, Attn: Mrs. Geraldine Taylor, Applications Processing, Room 11732, NOAA, 1315 East-West Highway, Silver Spring, MD 20910 (telephone number for express mail applications is 301-713-2445). Facsimile transmissions and electronic mail submission of applications will not be accepted.

IX. Other Requirements

The Department of Commerce Pre-Award Notification Requirements for Grants and Cooperative Agreements contained in the Federal Register notice of October 1, 2001 (66 FR 49917) are applicable to this solicitation. However, please note that the Department will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case has been finally resolved, the Department will provide further information on implementation of Executive Order 13202. The Federal Register notice also lists the forms required to complete the standard Department of Commerce grant application package, but those forms will be required only for those applicants who have been recommended for funding. For projects selected in Sea Grant states, the Sea Grant Program will prepare and submit these forms on behalf of all projects selected from that state.

Unsuccessful applications will be held in the National Sea Grant Office for a period of five (5) years and then destroyed. Applications under this program are not subject to Executive Order 12372, “Intergovernmental Review of Federal Programs.”

Pursuant to Executive Orders 12876, 12900, and 13021, the Department of Commerce, National Oceanic and Atmospheric Administration (DOC/NOAA) is strongly committed to broadening the participation of Historically Black Colleges and Universities (HBCU), Hispanic Institutions (HSI), and Tribal Colleges and Universities (TCU) in its educational and research programs. The DOC/NOAA vision, mission, and goals are to achieve full participation by Minority Servicing Institutions (MSI) in order to advance the development of human potential, to strengthen the nation's capacity to provide high-quality education, and to increase opportunities for MSIs to participate in and benefit from Federal Financial Assistance programs. DOC/NOAA encourages all applicants to include meaningful participation of MSIs. Institutions eligible to be considered MSIs are listed at the following Internet Web site: http://www.ed.gov/offices/OCR/minorityinst.html.

This notice contains collection-of-information requirements subject to the Paperwork Reduction Act. The use of NOAA Forms 90-2 and 90-4, or equivalents, has been approved by OMB under the control number 0648-0362. Public reporting burden for these collections of information is estimated to average 20 minutes for a NOAA Form 90-2 and 15 minutes for a NOAA Form 90-4. These response times include the time for reviewing instructions, searching existing data sources, gathering and maintaining the data needed, and completing and reviewing the collection of information. Send comments regarding this burden estimate, or any other aspect of this data collection, including suggestions for reducing the burden, to the National Sea Office (see the FOR FURTHER INFORMATION CONTACT section).

Notwithstanding any other provision of law, no person is required to respond to, nor shall any person be subject to a penalty for failure to comply with, a collection of information subject to the Paperwork Reduction Act, unless that collection displays a currently valid OMB control number.

X. Classification

It has been determined that this notice is not significant for purposes of Executive Order 12866. It has been determined that this notice does not contain policies with Federalism implications as that term is defined in EO 13132.

Dated: August 5, 2002.
Louisa Koch,
Deputy Assistant Administrator, Office of Oceanic and Atmospheric Research, National Oceanic and Atmospheric Administration.
Dated: August 2, 2002.
John E. Herring,
Acting Director, Office of Science and Technology, National Marine Fisheries Service, National Oceanic and Atmospheric Administration.

[FR Doc. 02-20220 Filed 8-8-02; 8:45 am]

BILLING CODE 3510-KA-M